SMALL BUSINESS ADMINISTRATION

Draper Associates, LP License No. 09/09-0242; Notice Seeking Exemption Under Section 312 of the Small Business Investment Act, Conflicts of Interest

Notice is hereby given that Draper Associates, LP, 2882 Sand Hill Road, Suite 150, Menlo Park, CA 94025, a federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Draper Associates, LP proposes to provide equity financing to OnMeta, Inc. The financing is contemplated for working capital and general corporate purposes.

The financing is brought within the purview of Section 107.730(a)(1) of the SBIC Regulations because Zone Venture Fund II, LP and Zone Venture Fund II Annex, LP, Associates of Draper Associates, LP, own more than ten percent of OnMeta, Inc.

Notice is hereby given that any interested person may submit written comments on the transaction to the Associate Administrator for Investment, U.S. Small Business Administration, 409 Third Street, SW., Washington, DC 20416.

Dated: December 1, 2006.
Jaime Guzman-Fournier,
Associate Administrator for Investment.

[FR Doc. E6-21333 Filed 12-14-06; 8:45 am]

BILLING CODE 8025-01-P